DEPARTMENT OF DEFENSE

Office of the Secretary

Record of Decision To Establish a Ground-Based Midcourse Defense Initial Defensive Operations Capability at Fort Greely, AK

AGENCY: Missile Defense Agency, Department of Defense.

ACTION: Record of decision.

SUMMARY: The Missile Defense Agency (MDA) is issuing this Record of Decision (ROD) to establish an Initial Defensive Operations (IDO) capability at Fort Greely, Alaska. The Fort Greely IDO is a capability of the Ground-Based Midcourse Defense (GMD) element within the broader conceptual Ballistic Missile Defense System (BMDS). The Fort Greely IDO components will consist of up to 40 silos, equipped with Ground-Based Interceptor (GBI) missiles, In-Flight Interceptor Communications System (IFICS) Data Terminals (IDT), and support facilities and infrastructure. These IDO components and their support facilities at Fort Greely are a subset of the preferred alternative for a GBI site in the National Missile Defense (NMD) Deployment Environmental Impact Statement (EIS) (July 2000), which evaluated the environmental effects of deploying up to 100 GBI missiles with related facilities and infrastructure at alternative sites in Alaska (AK) and North Dakota (ND).

FOR FURTHER INFORMATION CONTACT: For further information on the NMD Deployment EIS or this ROD contact: Ms. Julia Elliot, U.S. Army Space and Missile Defense Command, Attn: SMDC-EN-V, P.O. Box 1500, Huntsville, Alabama 35807-3801, (256) 955-4822. Public reading copies of the Final EIS and the ROD are available for review at the public libraries within the communities near proposed activities and at the MDA Internet site: http://www.acq.osd.mil/bmdo/bmdolink/html/nmd.html.

SUPPLEMENTARY INFORMATION:

Background

The MDA is issuing this ROD to establish an IDO capability at Fort Greely, AK. The Fort Greely IDO is a capability of the GMD element within the broader conceptual BMDS. The Fort Greely IDO components will consist of up to 40 silos, equipped with GBI missiles, IDTs, and support facilities and infrastructure at the existing Validation of Operational Concept (VOC) Test Site. These IDO components and their support facilities at Fort Greely are a subset of the preferred alternative for a GBI site in the NMD Deployment EIS (July 2000), which evaluated the environmental effects of deploying up to 100 GBI missiles with related facilities and infrastructure at alternative sites in AK and ND. Specific sites for the IDTs, as well as additional support infrastructure and security measures and Command and Control, Battle Management, and Communications facilities at Fort Greely, were further evaluated in the VOC Environmental Assessment (EA) (March 2002) and VOC Supplemental EA (January 2003).

The Fort Greely IDO components, when combined with existing GMD test assets, early warning radars, satellites, communications networks, and command and control facilities, will provide a capability to protect the United States from a limited ballistic missile attack. Additional GMD flight test assets, including a Sea-Based Test X-Band Radar (SBX) to be located in the Pacific region, are being evaluated in the GMD Extended Test Range (ETR) EIS. These assets, if selected and integrated into the test architecture, would complement the Fort Greely components and enhance the IDO capability.

As a separate action to be supported by independent National Environmental Policy Act (NEPA) analysis, existing silos and other facilities and infrastructure at Vandenberg Air Force Base (VAFB) may be modified to accommodate GBIs. These proposed components, when combined with the existing GMD ETR test assets, would provide an IDO capability at VAFB that could be used independently of the Fort Greely IDO components and would provide additional protection for the United States (U.S.).

This decision is based on the President's determination that there is a ballistic missile threat to the U.S. The Secretary of Defense and MDA's Director have further determined that establishment of the IDO capability at Fort Greely, supported by existing test assets, is the best way to counter that threat initially. Other factors considered in reaching this decision to establish IDO components at Fort Greely, AK, include cost, technical maturity of the GMD element, and strategic arms reduction objectives.

This ROD has been prepared pursuant to the Council on Environmental Quality (CEQ) regulations implementing the NEPA (40 CFR parts 1500-1508), DoD Instruction 4715.9, and the applicable service environmental regulations that implement these laws and regulations. The U.S. Air Force, U.S. Army, U.S. Navy, and the Federal Aviation Administration participated as cooperating agencies in preparing the NMD Deployment EIS. The Proposed Action described in the EIS was to deploy a NMD System at several locations consisting of GBIs, Battle Management Command and Control (BMC2), an X-Band Radar (XBR), IDTs, satellite detection system, Early Warning Radar (EWRs), and fiber optic cable (FOC).

Since the NMD Deployment EIS was completed, several events related to this ROD have occurred. In September 2000, President Clinton determined that the deployment decision should be deferred and more robust testing be conducted to gain greater confidence in the missile defense technologies under development.

On January 2, 2002, the Ballistic Missile Defense Organization was administratively re-aligned as MDA, with the objective of developing an integrated BMDS. The NMD system was renamed the GMD element, with the focus on more realistic testing. Two types of testing, ground testing of operational components and flight-testing of the GBI, were planned as independent parts of a GMD test bed.

To evaluate construction and ground testing of potential operational components in a realistic environment, as well as specific siting for IDTs and FOC, and communication lines not evaluated in the NMD Deployment EIS, the MDA prepared the VOC EA. Based on its Finding of No Significant Impact (FONSI) from the analysis in the VOC EA, the MDA decided to construct the VOC GBI test site at Fort Greely. MDA subsequently prepared the Supplemental VOC EA and resulting FONSI to evaluate security and other upgrades at the designated VOC GBI test site at Fort Greely. Concurrently, MDA began preparation of the ETR EIS to examine the effects of more realistic GBI flight-testing in the Pacific region.

On December 17, 2002, following a number of flight test successes, President Bush announced plans to build and field an IDO capability, building on the capabilities of existing and planned test components. This ROD implements that decision, with the main focus of this initial capability at the Fort Greely GBI VOC test site. An additional IDO capability at VAFB has been proposed, which could be used independently of the Fort Greely components. It would provide more protection for the U.S. as the BMDS develops and matures. Development of an IDO capability at VAFB was not part of the NMD Deployment EIS and would require additional NEPA analysis. That capability is not included in this ROD.

The NMD Deployment EIS preferred alternative examined the effects of deploying up to 100 GBI missiles and related facilities and infrastructure at Fort Greely. This ROD implements a limited subset of that alternative. Under this ROD, the Fort Greely portion of the GMD IDO capability selectively integrates existing and planned assets into a system that would provide a limited, operational missile defense capability as a first step to a more robust, future GMD deployment described and analyzed in the NMD Deployment EIS. As such, this ROD implements actions that are within the scope of the activities analyzed in the NMD Deployment EIS. The following existing and planned BMDS assets would be fielded and/or integrated to make up the Fort Greely GMD IDO capability:

• Six silos and GBI missiles, BMC2, Defense Satellite Communication System (DSCS), one IDT, support facilities and infrastructure, and FOC at Fort Greely, AK, which are part of the GMD VOC test bed currently under construction.

• Up to forty missile silos, equipped with GBI missiles, one additional IDT, supporting facilities (including backup power plant), infrastructure, and FOC communication links at Fort Greely, AK. MDA currently plans only a maximum of 20 GBI missiles at Fort Greely, but this ROD documents a total of 40 silos equipped with GBI missiles in order to provide maximum flexibility for maintenance and future operational needs.

• Upgrades to the EWRs at Beale AFB, CA and the Cobra Dane radar at Eareckson Air Station (AS) Shemya AK, and an IDT, DSCS, BMC2 and FOC at Eareckson AS, that are part of the GMD VOC test bed currently under construction.

• Existing GMD BMC2 nodes throughout the U.S., which are a part of the GMD VOC test bed. These nodes include Cheyenne Mountain Complex, CO; Shriever AFB, CO; and Peterson AFB, CO.

NEPA Process

The Notice of Intent (NOI) to prepare an EIS for the deployment of the NMD system was published in the Federal Register on November 17, 1998, initiating the public scoping process. Public scoping meetings were held in December 1998 in communities perceived to be affected by the NMD system. The Notice of Availability (NOA) of the NMD Deployment Draft EIS was published in the Federal Register on October 1, 1999. This initiated a public review and comment period for the Draft EIS. Seven public hearings were held from October 26 through November 9, 1999 in the same locations as the public scoping meetings. Subsequently, a supplement to the Draft EIS was prepared to evaluate the potential impacts of upgrading existing EWRs for use by the NMD system. A public hearing was held in Bourne, MA, for the Supplement. Comments on the Draft EIS and the Supplement to the Draft EIS were considered in the preparation of the Final EIS. The NOA for the Final EIS was published in the Federal Register on 21 July 2000, initiating an additional 30-day comment period. Comments were considered in the decision process, culminating in this ROD.

Alternatives Considered

No-Action Alternative

As required by the CEQ regulations, the NMD Deployment EIS evaluated a No-action Alternative. Under this alternative, the GMD deployment decision would be deferred, while development and testing of GMD technologies and architectures would continue. Since they are a subset of the proposed action, the activities that are described in this ROD would not be implemented under the No-action Alternative. Non-GMD activities currently occurring or planned at potential fielding sites would continue.

Proposed Action

The proposed action analyzed in the NMD Deployment EIS was to field a fixed, land-based, non-nuclear missile defense system with a land and space-based detection system capable of responding to limited strategic ballistic missile threats to the U.S. The NMD system analyzed in the Deployment EIS consisted of GBIs, BMC2, XBR, IDTs, satellite detection system, EWRs, and FOC. The initial space-based detection capability would be the existing Defense Support Program early-warning satellites to be replaced by Space-Based Infrared System (SBIRS) satellites currently being developed by the U.S. Air Force. Since the NMD Deployment EIS was completed, the NMD system architecture has evolved into the BMDS multi-layered approach that does not distinguish between national and theater threats. The BMDS consists of the same components, at the same preferred locations, as the NMD system analyzed in the NMD Deployment EIS. As noted, this ROD implements a subset of the activities in the proposed action described above.

Environmental Impacts of Alternatives

The NMD Deployment EIS analyzed the environment in terms of 15 resource areas including: air quality, airspace, biological resources, cultural resources, geology and soils, hazardous materials and wastes, health and safety, land use and aesthetics, noise, socioeconomics, transportation, utilities, water resources, environmental justice, and subsistence. Each resource area with a foreseeable impact at the respective alternative sites was addressed in the EIS. The analysis in the EIS was commensurate with the importance of the potential impacts. Where it was determined through initial evaluation that no impacts would occur to resources at certain sites, these resources were not analyzed in the EIS. The potential for cumulative impacts was also evaluated in the EIS.

No-Action Alternative—Environmental Impacts

Under the No-action Alternative described in the EIS, only the locations and environmental resources discussed below were anticipated to have environmental impacts from continued ongoing operations.

Eielson AFB. There would be potential impacts in the areas of land use and noise from continued U.S. Air Force operations. The presence of residential units in the community of Moose Creek within the Clear and Approach Zones at the end of the runway is considered an incompatible land use. Low density housing in the community of Moose Creek is subjected to noise levels that exceed the recommended day-night level of 65 decibels. The local government, Eielson AFB, and the community of Moose Creek are working to minimize future noise impacts.

Fort Greely. There would be impacts to geology and soils, socioeconomics, and water resources from continued activities at Fort Greely. These impacts could include some soil damage from vehicles, weapons, and fires. Some soil erosion with net soil loss and water quality impacts would occur near training activities. Localized long-term damage to permafrost could occur as a result of ground training and fire damage from training. The Army has developed mitigation measures to minimize these impacts. Training maneuvers, if conducted repeatedly in the same area, could result in cumulative impacts to water resources. The Army has implemented measures to minimize impacts to water resources.

Yukon Training Area. Impacts to geology and soils and water resources would be similar to those described for Fort Greely.

Preferred Alternative—Environmental Impacts

The Preferred Alternative identified in the NMD Deployment EIS was to deploy up to 100 GBI missiles in silos at Fort Greely, Alaska, to include supporting infrastructure and components with an XBR at Eareckson AS, Shemya, Alaska, and to upgrade existing EWRs. No locations for IDTs were identified in the EIS, but several IDT sites were subsequently evaluated in the GMD VOC EA. Environmental impacts expected to result from a deployment decision are summarized below. Building and fielding of an IDO capability at Fort Greely, as a subset of activities evaluated in the EIS, would have the same as or incrementally fewer impacts than those described in the EIS.

Fort Greely, Alaska. This was the preferred GBI siting alternative in the Final EIS and is the selected site for up to 40 GBI silos, BMC2, 1 additional IDT, supporting facilities (including backup power) and infrastructure, and FOC. The EIS concluded that deployment of the GBI at Fort Greely could result in impacts to health, safety, and socioeconomics. In the unlikely event of a liquid propellant leak from the GBI system, hazardous propellant gases could extend beyond the base boundary. The Occupational Safety and Health Administration (OSHA) Permissible Exposure Limit for nitrogen tetroxide could be exceeded up to 760 meters (2,493 feet) from the source of the leak, affecting less than 14 hectares (35 acres) of undeveloped land outside the base boundary and would not affect the Fort Greely Cantonment area. Exposure at these levels in the open-air conditions would be mildly irritating to the eyes and nose and could induce coughing. Given the small quantities of liquid propellant, multiple safety systems in system design, and the presence of an emergency response team, the overall risk to public health and safety would be low. Mutual aid agreements with local fire departments would need to be updated to inform them of the additional hazards and safety considerations of GBI deployment. To reduce the potential for forest fires affecting the GBI element site, the fire protection status for the proposed area would need to be changed from Full Protection to Critical Protection. Critical Protection status would give the highest level of fire fighting provided by the Bureau of Land Management Alaska Fire Service. The U.S. Army would need to coordinate this revision with the Alaska Fire Service. It is anticipated that construction and operation of the GBI element at Fort Greely would provide an economic benefit to the surrounding regions, partially offsetting the loss of jobs at the base as a result of previous Base Realignment and Closure (BRAC) cutbacks.

Upgraded Early Warning Radars

Under the Preferred Alternative in the EIS, the EWRs at Beale AFB, CA; Clear AFS, AK; and Cape Cod AFS, MA would be upgraded. The VOC EA analyzed upgrades to the Beale EWR, with similar upgrades to the Cobra Dane radar at Eareckson AS. The upgrades would involve replacement of electronic hardware and computer software. The radiated peak and average power, radar antenna patterns, and operating bands of the radars would remain unchanged from current operations. Consequently, the public exposure to radio frequency radiation from the UEWRs over a 30-minute averaging period would be similar to that from the existing early warning radars and would be well within the most applicable criteria, the American National Standards Institute/Institute of Electrical and Electronics Engineers standard. The U.S. Air Force is in the process of preparing a supplement to their Atmospheric Interceptor Technology Program Environmental Assessment, 1979 to address maintenance and sustainment of operations for the early warning radars.

Alternatives Not Selected—Environmental Impacts

Several alternative locations for deployment of GBIs in the NMD Deployment EIS are not selected at this time. In addition, this ROD does not include a decision concerning construction or operation of an XBR. Potential environmental impacts at those sites not selected for IDO fielding of GBIs are summarized below. As with the preferred alternative, fielding of an IDO capability at any of these sites would have similar or incrementally fewer impacts than those described in the EIS.

GBI and BMC2 Locations

Clear AFS, Alaska. Deployment of the GBI at this location could result in impacts to biological resources, geology and soils, health and safety, and socioeconomics. Construction activities could cause impacts to approximately 2.7 hectares (6.6 acres) of wetlands under the GBI Alternative Site A or 55 hectares (135 acres) under the GBI Alternative Site B. The wetland permitting process would be coordinated with appropriate Federal and state agencies and would entail review of proposed activities and development of mitigation measures. There would be the potential to impact permafrost during construction on Clear AFS. Prior to final design and construction, a comprehensive geotechnical investigation would be conducted to determine the exact nature of the soils and ground-water levels in the area. The site layout would be adjusted to minimize any impacts in the unlikely event that unstable permafrost were encountered. Depending on the ground-water levels, missile silos might be slightly elevated to avoid water incursion during construction and operations. The potential health hazard from liquid propellant leaks at the GBI Alternative Site B would be similar to that at Fort Greely. However, OSHA exposure limits for nitrogen tetroxide could affect up to 122 hectares (302 acres) of undeveloped land outside of the base boundary and the on-base administrative and housing areas. It is anticipated that construction and operation of the GBI element at Clear AFS would provide an economic benefit to the surrounding regions.

Yukon Training Area (Fort Wainwright)/Eielson AFB, Alaska. Deployment of the GBI at this location could result in impacts to biological resources, cultural resources, geology and soils, and socioeconomics. Construction activities could impact approximately 46 hectares (113 acres) of wetlands. Potential impacts to these wetlands and mitigation measures would be similar to those described for Clear AFS. An archaeological site (Site FAI 157) is located approximately 262 meters (860 feet) west of the GBI site. If avoidance of this site were not feasible, adverse affects could be mitigated through data recovery. Building 3425 at Eielson AFB (a Cold War era warehouse) may be eligible for listing in the National Register of Historic Places and could be affected by modifications from the GBI deployment. Appropriate mitigation measures would be developed in consultation with the Alaska State Historic Preservation Officer (SHPO). Best Management Practices would be used to reduce the potential for soil erosion at the GBI site. Geotechnical investigations at the proposed site indicate the presence of permafrost on north facing slopes. Permafrost areas would be avoided if possible. It is anticipated that construction and operation of the GBI element at this location would provide an economic benefit to the surrounding regions.

Grand Forks AFB, North Dakota. Deployment of the GBI at this location could result in impacts to biological resources, geology and soils, health and safety, and socioeconomics. Construction activities could affect approximately 5 hectares (12 acres) of wetlands at the Ordnance Training-5 (OT-5) area site. The wetland permitting process would be coordinated with appropriate Federal and state agencies and would entail review of proposed activities and development of mitigation measures. Best Management Practices would be implemented to minimize wind erosion of soils during construction. The potential for health hazards from liquid propellant leaks and reporting requirements would be similar to that at Fort Greely. OSHA exposure limits for nitrogen tetroxide could be exceeded on up to 306 hectares (757 acres) outside of the base, including two residential units, three commercial units, and two churches, and on the alert apron and portions of the administration area on base. Given the small quantities of liquid propellant, multiple safety systems in system design, and the presence of an emergency response team, the overall risk to public health and safety would be low. Mutual aid agreements with local fire departments would need to be updated to inform them of the additional hazards and safety considerations of GBI deployment. It is anticipated that construction and operation of the GBI element at this location would provide an economic benefit to the surrounding regions.

Mitigation Measures and Monitoring

The applicable mitigation measures specified for each of the sites selected to build and field an IDO capability at Fort Greely will be implemented as part of the GMD IDO action. A Mitigation Monitoring Plan has been developed to assist in tracking and implementing these mitigation measures. With the implementation of the mitigation measures, all practicable means to avoid or minimize environmental harm from fielding of the GMD IDO at Fort Greely, AK considered in this ROD have been adopted.

Environmentally Preferred Alternative

The environmentally preferred alternative in the EIS is the No-action Alternative (not proceeding with GMD deployment) since there would be no construction and operation of GMD elements at any of the potential deployment sites. With the action in this ROD to field an IDO capability at Fort Greely, the No-action Alternative remains the environmentally preferred alternative. Continuation of current site operations at these locations would result in few additional environmental impacts.

Under the Proposed Action in the EIS, Fort Greely, AK is the environmentally preferred location for deployment of GBIs, with supporting facilities (including a backup power plant) and infrastructure, IDTs, and FOC. No sensitive habitats or wetlands would be affected; construction of the silos would not impact groundwater or permafrost; and Fort Greely is remote from any major population centers. Fort Greely remains the environmentally preferred alternative to field an IDO capability with up to 40 GBIs.

Conclusion

In accordance with NEPA, MDA has considered the information contained within the NMD Deployment EIS in deciding to field the GMD IDO capability as described above. The decision is to build and field up to 40 GBI silos, BMC2, 1 additional IDT, supporting facilities (including backup power plant), infrastructure, and FOC at Fort Greely, AK.

Dated: April 21, 2003.
L.M. Bynum,
Alternate OSD Federal Register Liaison Officer, Department of Defense.

[FR Doc. 03-10212 Filed 4-24-03; 8:45 am]

BILLING CODE 5001-08-P